DEPARTMENT OF COMMERCE

National Oceanic and Atmospheric Administration

RIN 0648-XF97

Marine Mammals; File No. 10137

AGENCY: National Marine Fisheries Service (NMFS), National Oceanic and Atmospheric Administration (NOAA), Commerce.

ACTION: Notice; issuance of permit and proposed amendment.

SUMMARY: Notice is hereby given that the NMFS Pacific Islands Fisheries Science Center, Marine Mammal Research Program (MMRP), 2570 Dole Street, Honolulu, HI 96822-2396 (Responsible Party: Frank Parrish, Ph.D.), has been issued a permit to conduct research and enhancement activities on Hawaiian monk seals (Monachus schauinslandi).

ADDRESSES: The permit and related documents are available for review upon written request or by appointment in the following offices:

Permits, Conservation and Education Division, Office of Protected Resources, NMFS, 1315 East-West Highway, Room 13705, Silver Spring, MD 20910; phone (301)713-2289; fax (301)713-0376; and

Pacific Islands Region, NMFS, 1601 Kapiolani Blvd., Rm 1110, Honolulu, HI 96814-4700; phone (808)944-2200; fax (808)973-2941.

FOR FURTHER INFORMATION CONTACT: Amy Sloan or Kate Swails, (301)713-2289.

SUPPLEMENTARY INFORMATION: On March 6, 2008, notice was published in the Federal Register (73 FR 12137) that a request for a permit to take the species identified above had been submitted by the MMRP. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 10137 authorizes the MMRP to: (1) assess survivorship, reproductive rates, pup production, condition, abundance, movements among subpopulations, and incidence and causes of injury or mortality; (2) diagnose disease, monitor exposure to disease, and develop normal baseline hematology and biochemistry parameters; (3) conduct activities to increase survival of individuals; and (4) investigate foraging ecology to determine foraging locations, diving parameters, characteristics of foraging substrate, and prey identification and foraging behaviors. The permit has been issued for a 5-year period.

One project proposed by the applicant, translocation of immature seals between islands/atolls within the Northwestern Hawaiian Islands, was not authorized because the NMFS Endangered Species Division requested additional time to complete the consultation under section 7 of the ESA for this portion of the permit. NMFS proposes to amend Permit No. 10137 to include this enhancement activity upon completion of the ESA section 7 consultation.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: July 6, 2009.
P. Michael Payne,
Chief, Permits, Conservation and Education Division, Office of Protected Resources, National Marine Fisheries Service.

[FR Doc. E9-16391 Filed 7-9-09; 8:45 am]

BILLING CODE 3510-22-S